UNIFIED CARRIER REGISTRATION PLAN

Sunshine Act Meetings

TIME AND DATE: February 5, 2026, 12:00 p.m. to 3:00 p.m., Eastern Time.

PLACE: The meeting will be accessible via conference call and via Zoom Meeting and Screenshare. Any interested person may call (i) 1-929-205-6099 (US Toll) or 1-669-900-6833 (US Toll), Meeting ID: 981 4482 4972, to listen and participate in this meeting. The website to participate via Zoom Meeting and Screenshare is https://kellen.zoom.us/meeting/register/8vI4_koqT8Cwnu1c_fX_3Q.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda.

IV. Approval of Minutes of the December 3, 2025, UCR Board Meeting—UCR Board Chair

For Discussion and Possible Board Action

Draft Minutes from the December 3, 2025, UCR Board meeting will be reviewed. The Board will consider action to approve.

V. Approval of Minutes of the December 18, 2025, UCR Board Meeting—UCR Board Chair

For Discussion and Possible Board Action

Draft Minutes from the December 18, 2025, UCR Board meeting will be reviewed. The Board will consider action to approve.

VI. Report of FMCSA—FMCSA Representative

A Federal Motor Carrier Safety Administrator (FMCSA) Representative will introduce to the UCR Plan Board. The FMCSA will provide a report on any relevant agency activity.

VII. Proposal To Require Each Participating State To Demonstrate Their Use of UCR Plan Entitlement Revenue in Accordance With 49 U.S.C. 14504a(e)(1)(B)—FMCSA Deputy Administrator

For Discussion and Possible Board Action

The FMCSA Deputy Administrator will ask the Board to evaluate the extent of the Board's statutory oversight requirements and/or responsibilities to ensure that participating states use entitlement revenue in accordance with 49 U.S.C. 14504a(e)(1)(B), and whether the Board's current compliance procedure is adequate. Specifically, participating states are required to use an amount at least equal to the revenue derived from the Unified Carrier Registration Agreement for motor carrier safety programs, enforcement, or the administration of the UCR plan and UCR agreement. The Board may take action on a proposal to require each participating state to demonstrate their use of UCR Plan entitlement revenue in accordance with 49 U.S.C. 14504a(e)(1)(B).

VIII. Subcommittee Reports

Audit Subcommittee—UCR Audit Subcommittee

No report.

Dispute Resolution Subcommittee—UCR Dispute Resolution Subcommittee Chair

No report.

Education and Training Subcommittee—UCR Education and Training Subcommittee Chair

The UCR Education and Training Subcommittee Chair will provide an update on key projects and initiatives, including the ongoing development of the learning management program and training modules, awareness and engagement efforts for various stakeholders, and the optimization of the website and newsletter.

Enforcement Subcommittee—UCR Enforcement Subcommittee Chair and Vice-Chair

The UCR Enforcement Subcommittee Chair and Vice-Chair will provide an update on current and planned initiatives, including efforts to enhance UCR enforcement efficiency, and recognition of states and inspectors.

Finance Subcommittee—UCR Finance Subcommittee Chair and UCR Depository Manager

A. 2024 External Financial Audit Update—UCR Finance Subcommittee Chair and UCR Depository Manager

The UCR Finance Subcommittee Chair and UCR Depository Manager will provide an update on the UCR Plan's 2024 External Financial Audit.

B. Management Report—UCR Finance Subcommittee Chair and UCR Depository Manager

The UCR Finance Subcommittee Chair and UCR Depository Manager will provide an update on UCR finances and related topics.

Industry Advisory Subcommittee—UCR Industry Advisory Subcommittee Chair

No report.

Governance Task Force—UCR Governance Task Force Chair

The UCR Governance Task Force Chair will provide an update on topics to include the UCR agreement, motor carrier regulatory review requirements and other related governance topics.

IX. Contractor Reports—UCR Board Chair

UCR Executive Director Update

The UCR Executive Director will provide a report covering his recent activity for the UCR Plan.

UCR Administrator Update (Kellen)

The UCR Chief of Staff will provide a management update covering any additional activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

X. Chief Legal Officer Report—UCR Chief Legal Officer

The UCR Chief Legal Officer will provide a report covering the status of the Petition For Review filed by the Small Business in Transportation Coalition, Inc. in the United States Court of Appeals for the District of Columbia Circuit involving the UCR Plan.

XI. Other Business—UCR Board Chair

The UCR Board Chair will call for any other business, old or new, from the floor.

XII. Adjournment—UCR Board Chair

The UCR Board Chair will adjourn the meeting.

The agenda will be available no later than 5:00 p.m. Eastern daylight time, January 28, 2026, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2026-02279 Filed 2-3-26; 11:15 am]

BILLING CODE 4910-YL-P